DEPARTMENT OF COMMERCE

National Oceanic and Atmospheric Administration

Agency Information Collection Activities; Submission to the Office of Management and Budget (OMB) for Review and Approval; Comment Request; For-Hire Telephone Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 24, 2020.

ADDRESSES: Interested persons are invited to submit written comments to Adrienne Thomas, NOAA PRA Officer, at PRAcomments@doc.gov. Please reference OMB Control Number 0648-0709 in the subject line of your comments. Do not submit Confidential Business Information or otherwise sensitive or protected information.

FOR FURTHER INFORMATION CONTACT: Requests for additional information or specific questions related to collection activities should be directed to John Foster, National Marine Fisheries Service, Office of Science and Technology, 1315 East-West Hwy./FST1, Silver Spring, MD 21910, Phone: (301) 427-8130 or john.foster@noaa.gov.

SUPPLEMENTARY INFORMATION:

I. Abstract

This request is for extension of a currently approved information collection.

The For-Hire Survey (FHS) is conducted for NMFS to estimate fishing effort on for-hire vessels (i.e., charter boats and head boats) in coastal states from Maine to Mississippi. These data are required to carry out provisions of the Magnuson-Stevens Fishery Conservation and Management Act (16 U.S.C. 1801 et seq.), as amended, regarding conservation and management of fishery resources.

The FHS collects fishing effort information from for-hire vessel representatives by telephone interview. For-hire vessels are randomly selected for the FHS from a comprehensive sample frame developed and maintained by NMFS. A sample of 10% of the vessels on the FHS frame are selected for reporting each week. Each interview collects information about the vessel, the number and type of trips the vessel made during the reporting week, the number of anglers on each trip, and other trip-level information.

For-hire fishing effort is estimated in numbers of angler-trips per sub-region, state, two-month wave, vessel type, and fishing area (inshore, nearshore, offshore). To get a total for-hire effort estimate, weekly FHS effort estimates are summed to produce wave estimates that are adjusted to account for frame coverage and reporting error. The FHS estimates are then combined with for-hire catch-rate estimates derived from complementary Marine Recreational Information Program (MRIP) surveys, to estimate total, state-level fishing catch. These estimates are used in the development, implementation, and monitoring of fishery management programs by the NMFS, regional fishery management councils, interstate marine fisheries commissions, and state fishery agencies.

II. Method of Collection

Telephone interviews will be conducted using Computer Assisted Telephone Interviewing (CATI) methodology.

III. Data

OMB Control Number: 0648-0709.

Form Number(s): None.

Type of Review: Regular submission (extension of a current information collection).

Affected Public: Individuals or households; Business or other for-profit organizations.

Estimated Number of Respondents: 22,000.

Estimated Time per Response: 3½ minutes each for a telephone interview.

Estimated Total Annual Burden Hours: 1,283.

Estimated Total Annual Cost to Public: $0 in recordkeeping/reporting costs.

Respondent's Obligation: Voluntary.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13524 Filed 6-23-20; 8:45 am]

BILLING CODE 3510-22-P